DEPARTMENT OF DEFENSE

GENERAL SERVICES ADMINISTRATION

NATIONAL AERONAUTICS AND SPACE ADMINISTRATION

48 CFR Chapter 1

[Docket No. FAR-2019-0001, Sequence No. 5]

Federal Acquisition Regulation; Federal Acquisition Circular 2019-06; Introduction

AGENCY: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2019-06. A companion document, the Small Entity Compliance Guide (SECG), follows this FAC. The FAC, including the SECG, is available via the internet at http://www.regulations.gov.

DATES: For effective date see the separate documents, which follow.

FOR FURTHER INFORMATION CONTACT: The analyst whose name appears in the table below in relation to the FAR case. For information pertaining to status or publication schedules, contact the Regulatory Secretariat Division at 202-501-4755.

Rules Listed in FAC 2019-06
Item | Subject | FAR case | Analyst
I | Use of Products and Services Of Kaspersky Lab | 2018-010 | Francis.
II | Update of “Affiliates” and Section 8(a) Clauses | 2019-006 | Chambers.
III | Update to Contractor Performance Assessment Reporting System (CPARS) | 2019-005 | Glover.
IV | New World Trade Organization Government Procurement Agreement Country-Australia | 2019-011 | Davis.

SUPPLEMENTARY INFORMATION: Summaries for each FAR rule follow. For the actual revisions and/or amendments made by these FAR rules, refer to the specific item numbers and subjects set forth in the documents following these item summaries. FAC 2019-06 amends the FAR as follows:

Item I—Use of Products and Services of Kaspersky Lab (FAR Case 2018-010

This final rule adopts an interim rule published on June 15, 2018, without changes. The interim rule implemented section 1634 of Division A of the National Defense Authorization Act for Fiscal Year 2018 (Pub. L. 115-91), which prohibited the use of hardware, software, and services developed or provided, in whole or in part, by Kaspersky Lab or related entities by the Federal Government, on or after October 1, 2018. The interim rule also required contractors to report any such hardware, software, or services discovered during contract performance. This rule is being implemented as a national security measure to protect Government information and information systems.

Item II—Update of “Affiliates” and Section 8(a) Clauses (FAR Case 2019-006)

This final rule amends the FAR to revise the definition of “affiliates” at FAR 19.101 and 2.101. This rule amends the clauses at FAR 52.219-12, Special 8(a) Subcontract Conditions, and 52.219-17, Section 8(a) Award, to remove an obsolete requirement for 8(a) contractors to obtain written approval from the Small Business Administration and the contracting officer before subcontracting the performance of any contract requirements. This final rule is expected to result in savings for Federal contractors who are participants in the 8(a) Program.

Item III—Update to Contractor Performance Assessment Reporting System (CPARS) (FAR Case 2019-005)

This final rule amends the FAR at FAR 42.1501 and 42.1503 to establish the Contractor Performance Assessment Reporting System (CPARS) as the official system for past performance information. The rule makes conforming changes in FAR parts 9, 13, 15, and 25 to remove all references to Past Performance Information Retrieval System (PPIRS) and adds CPARS for past performance information. The final rule is not expected to have a significant economic impact on small entities, because the rule merely designates an existing system, CPARS, as the single official repository for recording and maintaining contractor performance information.

Item IV—New World Trade Organization Government Procurement Agreement Country—Australia (FAR Case 2019-011)

DoD, GSA, and NASA are issuing a final rule amending the FAR to add Australia as a new World Trade Organization Government Procurement Agreement (WTO GPA) country. Australia is already a designated country, because it is a Free Trade Agreement country.

This final rule has no significant impact on the Government and contractors, including small business entities.

William F. Clark,
Director, Office of Government-wide Acquisition Policy, Office of Acquisition Policy, Office of Government-wide Policy.

Federal Acquisition Circular (FAC) 2019-06 is issued under the authority of the Secretary of Defense, the Administrator of General Services, and the Administrator of National Aeronautics and Space Administration.

Unless otherwise specified, all Federal Acquisition Regulation (FAR) and other directive material contained in FAC 2019-06 is effective September 10, 2019 except for Items II, III, and IV, which are effective October 10, 2019.

Linda W. Neilson,

Director, Defense Pricing and Contracting, Defense Acquisition Regulations System, Department of Defense.

Jeffrey A. Koses,

Senior Procurement Executive/Deputy CAO, Office of Acquisition Policy, U.S. General Services Administration.

William G. Roets, II,

Acting Assistant Administrator, Office of Procurement, National Aeronautics and Space Administration.

[FR Doc. 2019-19359 Filed 9-9-19; 8:45 am]

BILLING CODE 6820-EP-P